DEPARTMENT OF ENERGY

Federal Energy Regulatory Commission

Combined Notice of Filings #1

Take notice that the Commission received the following electric rate filings:

Docket Numbers: ER22-735-002.

Applicants: Avista Corporation.

Description: Tariff Amendment: Avista OATT sections M, N and Q Amendment filing to be effective 3/31/2022.

Filed Date: 4/22/22.

Accession Number: 20220422-5198.

Comment Date: 5 p.m. ET 5/13/22.

Docket Numbers: ER22-1445-001.

Applicants: Daylight I, LLC.

Description: Tariff Amendment: Group 2 FUA Amendment to be effective 5/25/2022.

Filed Date: 4/22/22.

Accession Number: 20220422-5229.

Comment Date: 5 p.m. ET 5/13/22.

Docket Numbers: ER22-1566-001.

Applicants: Guernsey Power Station LLC.

Description: Tariff Amendment: Guernsey Baseline Supplement to be effective 5/16/2022.

Filed Date: 4/22/22.

Accession Number: 20220422-5200.

Comment Date: 5 p.m. ET 5/13/22.

Docket Numbers: ER22-1669-000.

Applicants: California Independent System Operator Corporation.

Description: § 205(d) Rate Filing: 2022-04-21 Certificate of Concurrence—LGIA—APS, IID, SDG&E & White Wing to be effective 2/1/2022.

Filed Date: 4/21/22.

Accession Number: 20220421-5270.

Comment Date: 5 p.m. ET 5/12/22.

Docket Numbers: ER22-1670-000.

Applicants: PJM Interconnection, L.L.C.

Description: Tariff Amendment: Notice of Cancellation of WMPA, SA No. 6105; Queue No. AG1-336 re: withdrawal to be effective 5/22/2022.

Filed Date: 4/22/22.

Accession Number: 20220422-5055.

Comment Date: 5 p.m. ET 5/13/22.

Docket Numbers: ER22-1671-000.

Applicants: Midcontinent Independent System Operator, Inc.

Description: § 205(d) Rate Filing: 2022-04-22_SA 3502 Termination of METC-Orion Renewable Resources GIA (J832) to be effective 8/31/2021.

Filed Date: 4/22/22.

Accession Number: 20220422-5062.

Comment Date: 5 p.m. ET 5/13/22.

Docket Numbers: ER22-1672-000.

Applicants: Midcontinent Independent System Operator, Inc.

Description: § 205(d) Rate Filing: 2022-04-22_SA 3388 ATXI-Knox County Wind Farm 1st Rev GIA (J844) to be effective 4/12/2022.

Filed Date: 4/22/22.

Accession Number: 20220422-5069.

Comment Date: 5 p.m. ET 5/13/22.

Docket Numbers: ER22-1673-000.

Applicants: Alabama Power Company, Georgia Power Company, Mississippi Power Company.

Description: § 205(d) Rate Filing: Alabama Power Company submits tariff filing per 35.13(a)(2)(iii: Deatsville Solar LGIA Filing to be effective 4/13/2022.

Filed Date: 4/22/22.

Accession Number: 20220422-5149.

Comment Date: 5 p.m. ET 5/13/22.

Docket Numbers: ER22-1674-000.

Applicants: PJM Interconnection, L.L.C.

Description: § 205(d) Rate Filing: ISA, SA No. 5631; Queue No. AC1-098/AC1-099/AC2-084 to be effective 3/25/2022.

Filed Date: 4/22/22.

Accession Number: 20220422-5178.

Comment Date: 5 p.m. ET 5/13/22.

Docket Numbers: ER22-1675-000.

Applicants: NSTAR Electric Company.

Description: § 205(d) Rate Filing: Ocean State Power, LLC—Related Facilities Agreement to be effective 4/23/2022.

Filed Date: 4/22/22.

Accession Number: 20220422-5186.

Comment Date: 5 p.m. ET 5/13/22.

Docket Numbers: ER22-1676-000.

Applicants: PJM Interconnection, L.L.C.

Description: Tariff Amendment: Notice of Cancellation of WMPA, SA No. 6033; Queue No. AG1-337 re: withdrawal to be effective 6/22/2022.

Filed Date: 4/22/22.

Accession Number: 20220422-5220.

Comment Date: 5 p.m. ET 5/13/22.

Docket Numbers: ER22-1677-000.

Applicants: PJM Interconnection, L.L.C.

Description: Tariff Amendment: Notice of Cancellation of WMPA, Service Agreement No. 6118; Queue No. AG1-330 to be effective 6/22/2022.

Filed Date: 4/22/22.

Accession Number: 20220422-5222.

Comment Date: 5 p.m. ET 5/13/22.

Docket Numbers: ER22-1678-000.

Applicants: Virginia Electric and Power Company, PJM Interconnection, L.L.C.

Description: § 205(d) Rate Filing: Virginia Electric and Power Company submits tariff filing per 35.13(a)(2)(iii: Service Agreement No. 6425—NITSA between PJM and VEPCO dba Dominion Energy to be effective 4/12/2022.

Filed Date: 4/22/22.

Accession Number: 20220422-5247.

Comment Date: 5 p.m. ET 5/13/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 22, 2022.
Debbie-Anne A. Reese,
Deputy Secretary.

[FR Doc. 2022-09121 Filed 4-27-22; 8:45 am]

BILLING CODE 6717-01-P